INTERNATIONAL TRADE COMMISSION

[Investigation No. 337-TA-1216]

Certain Vacuum Insulated Flasks and Components Thereof; Institution of Investigation

AGENCY: U.S. International Trade Commission.

ACTION: Notice.

SUMMARY: Notice is hereby given that a complaint was filed with the U.S. International Trade Commission on July 29, 2020, under section 337 of the Tariff Act of 1930, as amended, on behalf of Steel Technology, LLC d/b/a Hydro Flask of Bend, Oregon and Helen of Troy Limited of El Paso, Texas. A supplement was filed on August 18, 2020. The complaint, as supplemented, alleges violations of section 337 based upon the importation into the United States, the sale for importation, and the sale within the United States after importation of certain vacuum insulated flasks and components thereof by reason of infringement of: (1) The sole claims of U.S. Design Patent No. D806,468 (“the '468 patent”); U.S. Design Patent No. D786,012 (“the '012 patent”); U.S. Design Patent No. D799,320 (“the '320 patent”); and (2) U.S. Trademark Registration No. 4,055,784 (“the '784 trademark”); U.S. Trademark Registration No. 5,295,365 (“the '365 trademark”); U.S. Trademark Registration No. 5,176,888 (“the '888 trademark”); and U.S. Trademark Registration No. 4,806,282 (“the '282 trademark”). The complaint further alleges that an industry in the United States exists as required by the applicable Federal Statute.

The complainant requests that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia Proctor, Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on August 28, 2020, ordered that —

(1) Pursuant to subsection (b) of section 337 of the Tariff Act of 1930, as amended, an investigation be instituted to determine whether:

(a) there is a violation of subsection (a)(1)(B) of section 337 in the importation into the United States, the sale for importation, or the sale within the United States after importation of certain products identified in paragraph (2) by reason of infringement the sole claim of the '468 patent; the sole claim of the '012 patent; and the sole claim of the '320 patent; and whether an industry in the United States exists as required by subsection (a)(2) of section 337;

(b) there is a violation of subsection (a)(1)(C) of section 337 in the importation into the United States, the sale for importation, or the sale within the United States after importation of certain products identified in paragraph (2) by reason of infringement of one or more of the '784 trademark; the '365 trademark; the '888 trademark; and the '282 trademark, and whether an industry in the United States exists as required by subsection (a)(2) of section 337

(2) Pursuant to section 210.10(b)(1) of the Commission's Rules of Practice and Procedure, 19 CFR 210.10(b)(1), the plain language description of the accused products or category of accused products, which defines the scope of the investigation, is “vacuum insulated flasks made of stainless steel and caps for such flasks, including round caps with a strap secured on either side of the cap, and straw caps.”;

(3) For the purpose of the investigation so instituted, the following are hereby named as parties upon which this notice of investigation shall be served:

(a) The complainant is:

Steel Technology, LLC d/b/a, Hydro Flask, 525 NW York Drive, Bend, OR 97703.

Helen of Troy Limited, 1 Helen Of Troy Plaza, El Paso, TX 79912.

(b) The respondent is the following entity alleged to be in violation of section 337, and is the party upon which the complaint is to be served:

Everich and Tomic Houseware Co., Ltd., 29/F, UDC Times Building, Tower A, No. 8, Xinye Road, Hangzhou, China 310016.

Cangnan Kaiyisi E-Commerce Technology, Co., Ltd., Room 201, No. 119, Building 4, Demonstration Industrial Park, Longjin, Avenue, Longgang Town, Cangnan County, Wenzhou, Zhejiang, China 325800.

Shenzhen Huichengyuan Technology Co., Ltd., No. 249 Shopping Street, Fuwei Road, Xiashiwei Village, Fuyong, Baoan District, Shenzhen, Guangdong, China 518130.

Sinbada Impex Co., Ltd., Room 1001, Baiyue Center, Zhidi Plaza, 200, Huaining Road, Government Affairs District, Hefei, Anhui, China 231000.

Yongkang Huiyun Commodity Co., Ltd., No. 1, Jiasheng Road, Fangyan Town, Yongkang, Jinhua, Zhejiang, China 321308.

Wuyi Loncin Bottle Co., Limited, Yugui Road, Huachuan Industry Zone, Yongkang, Jinhua, Zhejiang, China 321300.

Yiwu Honglu Daily Necessities Co., Ltd., No. 53, Lake Gate Village, Yiwu City, Zhejiang, China 322003.

Zhejiang Yuchuan Industry & Trade Co., Ltd., Wangyuan Industry Zone, Quanxi Town, Wuyi County, Jinhua, Zhejiang, China 321201.

Zhejiang Yongkang Unique Industry & Trade Co., Ltd., No. 3, Yuansan Road, Baiyun Industry Zone, Yongkang, Jinhua, Zhejiang, China 321300.

Suzhou Prime Gifts Co., Ltd., Room 412, Block 38, Qidi Tech Park, No. 60, Weixin Road, Ind. Zone, Suzhou, Jiangsu, China 215021.

Hangzhou Yuehua Technology Co., Ltd., Room 203, Building 4, Chuangzhi Lvgu Development Centre, No. 788, Hongpu Road, Jianggan Dist., Hangzhou, Zhejiang, China 310000.

Guangzhou Yawen Technology Co., Ltd., Room 503, No. 85 South Shatai Road, Tianhe District, Guangzhou, China 510000.

Yiwu Yiju E-commerce Firm, Room 502, Unit 1, Building 55, Zongtang 1st District, Jiangdong Street, Yiwu City, Zhejiang Province, China 322000.

Jinhua Ruizhi Electronic Commerce Co., Ltd., No. 19 East Huangyantou Village, Bailongqiao Town, Wucheng District, Jinhua City, Zhejiang Province, China 321000.

Womart (Tianjin) International Trade Co., Ltd., 18-1-402, Yilinyuan, Donghai Street, Tianjin, China 300000.

Shenzhen Yaxin General Machinery Co., Ltd., 301A, 3/F, No. 17, Phase 1, Xinxing Industrial Park, Xinhe Community, Fuhai Street, Baoan District, Shenzhen, China, 518130.

Dunhuang Group a.k.a. DHgate, 6F Dimeng Commercial Building, No. 3-2 Hua Yuan Road, Haidian District, Beijing, China 100191.

Eddie Bauer, LLC, 10401 NE 8th Street Suite 500, Bellevue, WA 98004.

PSEB Holdings, LLC, Corporation Trust Center 1209 Orange Street, Wilmington, DE 19810.

HydroFlaskPup, 4525 East Gelding Drive, Phoenix, Arizona 85032.

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondent in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of the respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: August 28, 2020.
Lisa Barton,
Secretary to the Commission.

[FR Doc. 2020-19465 Filed 9-2-20; 8:45 am]

BILLING CODE 7020-02-P